DEPARTMENT OF COMMERCE

International Trade Administration

[C-570-982]

Utility Scale Wind Towers From the People's Republic of China: Rescission of Countervailing Duty Administrative Review; 2018

AGENCY: Enforcement and Compliance, International Trade Administration, Department of Commerce.

SUMMARY: The Department of Commerce (Commerce) is rescinding the administrative review of the countervailing duty (CVD) order on utility scale wind towers (wind towers) from the People's Republic of China (China) for the period January 1, 2018, through December 31, 2018.

DATES: Applicable June 7, 2019.

FOR FURTHER INFORMATION CONTACT: Kristen Johnson, AD/CVD Operations, Enforcement and Compliance, International Trade Administration, Department of Commerce, 1401 Constitution Avenue NW, Washington, DC 20230; telephone: (202) 482-4793.

SUPPLEMENTARY INFORMATION:

Background

On February 8, 2019, Commerce published a notice of opportunity to request an administrative review of the CVD order on wind towers from China.¹ On May 2, 2019, in accordance with section 751(a) of the Tariff Act of 1930, as amended (the Act) and based on a timely request for review by the Wind Tower Trade Coalition (the petitioner),² Commerce published in the Federal Register a notice of initiation of an administrative review of the CVD order on wind towers from China with respect to 56 companies for the period January 1, 2018, through December 31, 2018.³ On May 16, 2019, the petitioner withdrew its request for an administrative review of all 56 companies.⁴ No other party requested a review of the CVD order.

¹ See Antidumping or Countervailing Duty Order, Finding, or Suspended Investigation; Opportunity to Request Administrative Review, 84 FR 2816 (February 8, 2019).

² See Letter from the petitioner, “Utility Scale Wind Towers from the People's Republic of China: Request for Administrative Review,” dated February 26, 2019.

³ See Initiation of Antidumping and Countervailing Duty Administrative Reviews, 84 FR 18777 (May 2, 2019).

⁴ See Letter from the petitioner, “Utility Scale Wind Towers from the People's Republic of China: Withdrawal of Request for Administrative Review,” dated May 16, 2019.

Rescission of Review

Pursuant to 19 CFR 351.213(d)(1), Commerce will rescind an administrative review, in whole or in part, if the party that requested the review withdraws its request within 90 days of the date of publication of the notice of initiation of the requested review. In this case, the petitioner timely withdrew its request for review within the 90-day deadline, and no other party requested an administrative review of the CVD order. As a result, pursuant to 19 CFR 351.213(d)(1), we are rescinding the administrative review of the CVD order on wind towers from China for the period January 1, 2018, through December 31, 2018, in its entirety.

Assessment

Commerce will instruct U.S. Customs and Border Protection (CBP) to assess countervailing duties on all appropriate entries. Because Commerce is rescinding this administrative review in its entirety, entries of wind towers from China during the period January 1, 2018, through December 31, 2018, shall be assessed countervailing duties at rates equal to the cash deposit of estimated countervailing duties required at the time of entry, or withdrawal from warehouse, for consumption, in accordance with 19 CFR 351.212(c)(1)(i). Commerce intends to issue appropriate assessment instructions to CBP 15 days after the publication of this notice in the Federal Register.

Notification Regarding Administrative Protective Order (APO)

This notice also serves as a final reminder to parties subject to APO of their responsibility concerning the return or destruction of proprietary information disclosed under APO, in accordance with 19 CFR 351.305(a)(3). Timely written notification of the return or destruction of APO materials, or conversion to judicial protective order, is hereby requested. Failure to comply with the regulations and terms of an APO is a violation which is subject to sanction.

This notice is issued and published in accordance with sections 751(a)(1) and 777(i)(1) of the Act and 19 CFR 351.213(d)(4).

Dated: June 3, 2019.
James Maeder,
Associate Deputy Assistant Secretary for Antidumping and Countervailing Duty Operations.

[FR Doc. 2019-12026 Filed 6-6-19; 8:45 am]

BILLING CODE 3510-DS-P